SECURITIES AND EXCHANGE COMMISSION

Sunshine Act Meeting

Federal Register Citation of Previous Announcement: 69 FR 56467, September 21, 2004.

Status: Closed Meeting.

Place: 450 Fifth Street, NW., Washington, DC.

Announcement of Additional Meeting: Additional Meeting.

A Closed Meeting will be held on Wednesday, September 22, 2004, at 4 p.m.

Commissioners, Counsel to the Commissioners, the Secretary to the Commission, and recording secretaries will attend the Closed Meeting. Certain staff members who have an interest in the matter may also be present.

The General Counsel of the Commission, or his designee, has certified that, in his opinion, one or more of the exemptions set forth in 5 U.S.C. 552b(c)(3), (5), (7), (8) and (10) and 17 CFR 200.402(a)(3), (5), (7), (8), and (10) permit consideration of the scheduled matter at the Closed Meeting.

Commissioner Glassman, as duty officer, voted to consider the item listed for the closed meeting in a closed session, determined that Commission business required the above change and that no earlier notice thereof was possible.

The subject matter of the Closed Meeting scheduled for Wednesday, September 22, 2004, will be:

Regulatory matters regarding financial institutions.

At times, changes in Commission priorities require alterations in the scheduling of meeting items. For further information and to ascertain what, if any, matters have been added, deleted or postponed, please contact the Office of the Secretary at (202) 942-7070.

Dated: September 22, 2004.
Jonathan G. Katz,
Secretary.

[FR Doc. 04-21682 Filed 9-23-04; 12:07 pm]

BILLING CODE 8010-01-P